DEPARTMENT OF THE TREASURY

Internal Revenue Service

Advisory Group to the Internal Revenue Service, Tax Exempt and Government Entities Division (TE/GE); Meeting

AGENCY: Internal Revenue Service (IRS), Treasury.

ACTION: Notice.

SUMMARY: The Advisory Committee on Tax Exempt and Government Entities (ACT) will hold a public meeting on Wednesday, June 9, 2004.

FOR FURTHER INFORMATION, CONTACT: Steven J. Pyrek, Director, Communications and Liaison, 1111 Constitution Ave., NW., SE:T:CL—Penn Bldg, Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, June 9, 2004, from 9 a.m. to 2 p.m., at the Internal Revenue Service, 1111 Constitution Ave., NW., Room 3313, Washington, DC. Issues to be discussed relate to Employee Plans, Exempt Organizations, and Government Entities.

Reports from four ACT subgroups cover the following topics:

• Barriers to Voluntary Compliance: Governmental Employers' Perspective.

• Indian Tribal Government Guidance Priorities.

• Employee Plans Operational Guidance.

• Audit Cycle Time and Communications: Employee Plans and Tax Exempt Bonds.

• Reviewing IRS Policies and Procedures to Leverage Enforcement: Recommendations to Enhance Exempt Organization's (EO's) Enforcement and Compliance Efforts

Last minute agenda changes may preclude advance notice. Due to limited seating and security requirements, attendees must call Demetrice Bess to confirm their attendance. Ms. Bess can be reached at (202) 283-9954. Attendees are encouraged to arrive at least 30 minutes before the meeting begins to allow sufficient time for security clearance. Picture identification must be presented. Please use the main entrance at 1111 Constitution Ave., NW., to enter the building.

Should you wish the ACT to consider a written statement, please call (202) 283-9966, or write to: Internal Revenue Service, 1111 Constitution Ave., NW., SE:T:CL-Penn Bldg; Washington, DC 20224, or e-mail Steve.J.Pyrek@irs.gov.

Dated: May 11, 2004.
Steven J. Pyrek,
Designated Federal Official, Tax Exempt and Government Entities Division.

[FR Doc. 04-11137 Filed 5-14-04; 8:45 am]

BILLING CODE 4830-01-P